DEPARTMENT OF THE INTERIOR

Bureau of Reclamation

[RR02054000, 15XR0687NA, RX.18527901.3000000]

Central Valley Project Improvement Act Water Management Plans

AGENCY: Bureau of Reclamation, Interior.

ACTION: Notice of availability.

SUMMARY: The Bureau of Reclamation has made available to the public the Water Management Plans for 10 entities. For the purpose of this announcement, Water Management Plans (Plans) are considered the same as Water Conservation Plans. Reclamation is publishing this notice in order to allow the public an opportunity to review the Plans and comment on the preliminary determinations.

DATES: Submit written comments on the preliminary determinations on or before March 30, 2015.

ADDRESSES: Send written comments to Ms. Angela Anderson, Bureau of Reclamation, 2800 Cottage Way, MP-410, Sacramento, California 95825; or email at aanderson@usbr.gov.

FOR FURTHER INFORMATION CONTACT: To be placed on a mailing list for any subsequent information, please contact Ms. Anderson at the email address above or 916-978-5215 (TDD 978-5608).

SUPPLEMENTARY INFORMATION: To meet the requirements of the Central Valley Project Improvement Act of 1992 and the Reclamation Reform Act of 1982, the Bureau of Reclamation developed and published the Criteria for Evaluating Water Management Plans (Criteria). Each of the 10 entities listed below has developed a Plan that has been evaluated and preliminarily determined to meet the requirements of these Criteria. The following Water Management Plans are available for review:

• City of Fairfield

• City of Vacaville

• City of Vallejo

• Glide Water District

• Kanawha Water District

• San Joaquin River Exchange Contractors: Consisting of Central California Irrigation District, Columbia Canal Company, Firebaugh Canal Water District, and San Luis Canal Company

• Solano County Water Agency

• Suisun-Solano Water Authority

• West Stanislaus Irrigation District

• City of West Sacramento

We are inviting the public to comment on our preliminary (i.e., draft) determination of Plan adequacy. Section 3405(e) of the Central Valley Project Improvement Act (Title 34 Pub. L. 102-575), requires the Secretary of the Interior to establish and administer an office on Central Valley Project water conservation best management practices that shall “develop criteria for evaluating the adequacy of all water conservation plans developed by project contractors, including those plans required by Section 210 of the Reclamation Reform Act of 1982.” Also, according to Section 3405(e)(1), these criteria must be developed “with the purpose of promoting the highest level of water use efficiency reasonably achievable by project contractors using best available cost-effective technology and best management practices.” These criteria state that all parties (Contractors) that contract with Reclamation for water supplies (municipal and industrial contracts over 2,000 acre-feet and agricultural contracts over 2,000 irrigable acres) must prepare a Plan that contains the following information:

1. Description of the District;

2. Inventory of Water Resources;

3. Best Management Practices (BMPs) for Agricultural Contractors;

4. BMPs for Urban Contractors;

5. Plan Implementation;

6. Exemption Process;

7. Regional Criteria; and

8. Five-Year Revisions.

Reclamation evaluates Plans based on these criteria. A copy of these Plans will be available for review at Reclamation's Mid-Pacific Regional Office, 2800 Cottage Way, MP-410, Sacramento, California 95825. Our practice is to make comments, including names and home addresses of respondents, available for public review. If you wish to review a copy of these Plans, please contact Ms. Anderson.

Public Disclosure

Before including your address, phone number, email address, or other personal identifying information in your comment, you should be aware that your entire comment—including your personal identifying information—may be made publicly available at any time. While you can ask us in your comment to withhold your personal identifying information from public review, we cannot guarantee that we will be able to do so.

Richard J. Woodley,
Regional Resources Manager, Mid-Pacific Region, Bureau of Reclamation.

[FR Doc. 2015-03950 Filed 2-26-15; 8:45 am]

BILLING CODE 4332-90-P